NATIONAL AERONAUTICS AND SPACE ADMINISTRATION

[Notice (14-026)]

NASA Applied Sciences Advisory Committee Meeting

AGENCY: National Aeronautics and Space Administration.

ACTION: Notice of meeting.

SUMMARY: In accordance with the Federal Advisory Committee Act, Public Law 92-463, as amended, the National Aeronautics and Space Administration (NASA) announces a meeting of the Applied Sciences Advisory Committee. The meeting will be held for the purpose of soliciting, from the scientific community and other persons, scientific and technical information relevant to program planning.

DATES: Thursday, April 17, 2014, 1:00 p.m. to 4:00 p.m., Local Time.

FOR FURTHER INFORMATION CONTACT: Mr. Peter Meister, Science Mission Directorate, NASA Headquarters, Washington, DC 20546, (202) 358-1557, fax (202) 358-4118, or peter.g.meister@nasa.gov.

SUPPLEMENTARY INFORMATION: This meeting will be open to the public telephonically and by WebEx. Any interested person may call the USA toll free conference call number 1-866-762-9048, passcode 476274, to participate in this meeting by telephone. The WebEx link is https://nasa.webex.com/, meeting number 998 758 283, password @April17. The agenda for the meeting includes the following topics:

—Applied Sciences Program Update,

—Applied Science Budget Briefing,

—Missions and Applications.

It is imperative that the meeting be held on these dates to accommodate the scheduling priorities of the key participants.

Patricia D. Rausch,
Advisory Committee Management Officer, National Aeronautics and Space Administration.

[FR Doc. 2014-05405 Filed 3-11-14; 8:45 am]

BILLING CODE 7510-13-P